DEPARTMENT OF ENERGY

Innovative Energy Systems Pilot Project—Chemicals

AGENCY: Golden Field Office, U.S. Department of Energy.

ACTION: Notice of issuance of a funding opportunity announcement.

SUMMARY: The U.S. Department of Energy (DOE), is announcing its intention to establish a five-year collaborative pilot project to jointly support the research, development, and demonstration of projects which will improve the energy efficiency and enhance the productivity of energy systems throughout the chemical industry that are integrated with the chemical processing and energy supply systems within plant boundaries. This pilot project was conceived by Vision 2020 (an organization representing the chemical industry's technology development interests) with the goal of commercializing one or more innovative energy systems that will have widespread application and yield significant energy savings to the chemical industry. Future technology demonstrations of successful research and development (R&D) are anticipated to be conducted by the U.S. chemical industry once the technology risks have been minimized and the costs associated with any technology have been validated by the Innovative Energy Systems Pilot Project.

DATES: The Funding Opportunity Announcement was issued on March 16, 2004.

ADDRESSES: To obtain a copy of the Announcement, interested parties should access the DOE Golden Field Office Home page at http://www.go.doe.gov/funding.html, click on the word “access.” The link will open the Industry Interactive Procurement System (IIPS) Web site and provide instructions on using IIPS. The Announcement can also be obtained directly through IIPS at http://e-center.doe.gov by browsing opportunities by Contract Activity, for those Announcements issued by the Golden Field Office. DOE will not issue paper copies of the Announcement.

IIPS provides the medium for disseminating Announcements, receiving financial assistance applications, and evaluating the applications in a paperless environment. The application may be submitted in the Industry Interactive Procurement System (IIPS) by the applicant or a designated representative that receives authorization from the applicant; however, the application documentation must reflect the name and title of the representative authorized to enter the applicant into a legally binding contract or agreement. The applicant or the designated representative must first register in IIPS, entering their first name and last name, and then entering the company name/address of the applicant.

For questions regarding the operation of IIPS, contact the IIPS Help Desk at IIPS_HelpDesk@e-center.doe.gov or at (800) 683-0751.

FOR FURTHER INFORMATION CONTACT: Jean Siekerka, Contract Specialist, DOE Golden Field Office, 1617 Cole Boulevard, Golden, CO 80401-3393 or via facsimile to Jean at (303) 275-4788 or electronically to jean.siekerka@go.doe.gov.

SUPPLEMENTARY INFORMATION: This Funding Opportunity Announcement (FOA) employs a two-phased approach to achieve its objectives:

• Phase 1 involves selecting a Project Integrator with the expertise, resources, and project and contract management capabilities to solicit, review, select and manage contracts for innovative technology development projects addressing the aforementioned energy-saving opportunities in the chemical industry.

• Phase 2 involves the Project Integrator conducting a fair and open competitive Innovative Energy Systems Challenge (Challenge) solicitation (Request for Proposals, RFP) to attract potential innovative energy systems technology development projects that meet the following objectives:

1. Target the often overlooked areas of high-risk R&D in the areas of energy systems integrated with chemical processing and energy supply systems within chemical plant boundaries;

2. Through a fair and open competitive solicitation process, identify and facilitate development of innovative technologies that could cost-effectively achieve a significant (≥30 percent) reduction in on-site and off-site energy losses in the chemical industry;

3. Identify opportunities where energy efficiency and/or renewable energy technologies can support achievement of the ≥30 percent energy savings objective;

4. Lead to one or more innovative energy system designs ready for pilot-scale testing and/or computer models ready for beta-testing that address the aforementioned energy savings objective; and

5. Deliver a high-quality commercialization plan for the selected technology development projects.

After obtaining DOE cost share approval, the Project Integrator will issue contracts for the individual technology development projects, manage the contracts, and provide required reports to DOE.

Phase 1 funding: Approximately $500,000-$750,000 is expected to be available for the first two years to fund the Project Integrator organization. No cost share will be required under this phase.

Phase 2 funding: Approximately $6,000,000 in DOE cost share funding is expected to be available for an estimated five to eight projects that would run for up to five years. Individual Phase 2 projects will require either a minimum of 20% Non-Federal cost share for applied research and/or development projects or a minimum of 50% Non-Federal cost share for projects involving commercial demonstration, as appropriate. The Project Integrator will make the determination to fund in whole or in part, any, all, or none of the applications submitted in response to its solicitation, subject to the availability of DOE funds.

Issued in Golden, Colorado, on March 19, 2004.
Jerry L. Zimmer,
Director, Office of Acquisition and Financial Assistance.

[FR Doc. 04-6799 Filed 3-25-04; 8:45 am]

BILLING CODE 6450-01-P